DEPARTMENT OF ENERGY

Agency Information Collection Extension

AGENCY: U.S. Department of Energy.

ACTION: Notice of request for comments.

SUMMARY: The Department of Energy (DOE), pursuant to the Paperwork Reduction Act of 1995, intends to extend for three years, an information collection request with the Office of Management and Budget (OMB).

DATES: Comments regarding this proposed information collection must be received on or before July 29, 2024. If you anticipate any difficulty in submitting comments within that period, contact the person listed in the FOR FURTHER INFORMATION CONTACT section as soon as possible.

ADDRESSES: Written comments may be sent to Vanessa Grisko by email at vanessa.grisko@hq.doe.gov.

FOR FURTHER INFORMATION CONTACT: Requests for additional information or copies of the information collection instrument and instructions should be directed to Vanessa Grisko by email at vanessa.grisko@hq.doe.gov, (240) 388-5944.

SUPPLEMENTARY INFORMATION: Under the PRA of 1995 (Pub. L. 104-13; 44 U.S.C. 3501-3521), Federal agencies must obtain approval from OMB for each collection of information they conduct or sponsor. This request for comment is being made pursuant to section 3506(c)(2)(A) of the PRA. With respect to the following collection of information, DOE invites comments on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5179;

(2) Information Collection Request Titled: United States Energy and Employment Report Survey;

(3) Type of Review: Revision of currently approved information collection;

(4) Purpose: The rapidly changing nature of energy production, distribution, and consumption throughout the United States economy is having a dramatic impact on job creation and economic competitiveness, but is inadequately understood and, in some sectors, incompletely measured by traditional labor market sources. The U.S. Energy and Employment Report Survey will collect data from businesses in in-scope industries, quantifying and qualifying employment among energy activities, workforce demographics, wages, benefits, workforce needs, and the industry's perception on the difficulty of recruiting qualified workers. The data will be used to generate the annual U.S. Energy and Employment Report

(5) Annual Estimated Number of Respondents: 42,000;

(6) Annual Estimated Number of Total Responses: 42,000

(7) Annual Estimated Number of Burden Hours: 4,154.22;

(8) Annual Estimated Reporting and Recordkeeping Cost Burden: $572,570.21.

Statutory Authority: Sec. 301 of the Department of Energy Organization Act (42 U.S.C. 7151); sec. 5 of the Federal Energy Administration Act of 1974 (15 U.S.C. 764); and sec. 103 of the Energy Reorganization Act of 1974 (42 U.S.C. 5813).

Signing Authority

This document of the Department of Energy was signed on May 22, 2024, by Vanessa Grisko, Chief of Staff in the Office of Energy Jobs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on May 22, 2024.
Treena V. Garrett,
Federal Register Liaison Officer, U.S. Department of Energy.

[FR Doc. 2024-11630 Filed 5-24-24; 8:45 am]

BILLING CODE 6450-01-P